Proclamation 10799 of August 30, 2024

National Recovery Month, 2024

By the President of the United States of America

A Proclamation

This month, we recognize the more than 21 million Americans in recovery from substance use disorder. They exemplify courage, hope, and resilience as they seek new beginnings and help countless others find pathways to healing. People in recovery serve in every sector of society as business leaders, public servants, community leaders, and more. During National Recovery Month, we celebrate their contributions, and we honor the loved ones who have supported them on their recovery journeys. We also reaffirm our commitment to making sure every American has the resources they need to recover and thrive.

Substance use disorder impacts Americans in communities nationwide. Too many families have lost their children, siblings, parents, and friends to substance misuse and overdose. Every loss is a painful call to action. With adequate support and resources, recovery is possible. Our Nation is stronger when people in recovery do well.

The main goal of my Administration's National Drug Control Strategy is to save lives. My Administration is taking steps to provide the resources needed to ensure people can achieve and sustain recovery, no matter where they are. The Substance Abuse and Mental Health Services Administration opened the Office of Recovery to improve community-based recovery services across the country. And last year, we released the Recovery-Ready Workplace Toolkit to help employers create a safe and healthy work environment, reduce stigmatization of people with substance use disorder and mental illness, and promote treatment and recovery services.

We are also disrupting the flow of illicit drugs across our borders and into our neighborhoods; increasing prevention efforts; and expanding access to treatment for substance use disorder and mental health conditions, overdose reversal medications, and recovery services. Under my Administration, Federal law enforcement agents are keeping more deadly drugs out of our communities than ever before. Officials have stopped more illicit fentanyl at ports of entry over the last 2 fiscal years than in the previous 5 fiscal years combined. The Department of Justice has prosecuted thousands of drug traffickers, and the Department of the Treasury has sanctioned more than 300 people and organizations involved in the global illicit drug trade. And in July 2024, I issued a National Security Memorandum that calls on all relevant Federal departments and agencies to work collaboratively to do even more to disrupt the supply of illicit drugs.

We have expanded access to life-saving treatments, like medications to treat opioid use disorder, and have increased the number of health care providers who can prescribe these medications by 15 times. In February 2024, the Department of Health and Human Services issued a rule to comprehensively update the regulations in governing Opioid Treatment Programs for the first time in 20 years—removing barriers to the treatment of substance use disorder and expanding access to care. My Administration has made historic investments in the State Opioid Response and Tribal Opioid Response programs to improve prevention; expand treatment; and deliver free, life-saving medications across America. Already, this program has delivered nearly 10 million kits of opioid overdose reversal medications, such as naloxone.

And I have proposed a Budget that includes $1.8 billion for recovery, including over $200 million of Federal Substance Use Prevention, Treatment, and Recovery Services Block Grant program funding for recovery support services to help all Americans access health care, no matter where they are in their recovery process, as well as $22 billion to expand substance use treatment and help more Americans achieve and stay in recovery.

During National Recovery Month, we support everyone in their journey to and during recovery. We recommit to helping them live long, successful, and healthy lives, and we thank them for their contributions to our country. And we continue to ensure that those battling substance use disorder are supported.

NOW, THEREFORE, I, JOSEPH R. BIDEN JR., President of the United States of America, by virtue of the authority vested in me by the Constitution and the laws of the United States, do hereby proclaim September 2024 as National Recovery Month. I call upon all citizens, government agencies, private businesses, nonprofit organizations, and other groups to take action to promote recovery and improve the health of our Nation.

IN WITNESS WHEREOF, I have hereunto set my hand this thirtieth day of August, in the year of our Lord two thousand twenty-four, and of the Independence of the United States of America the two hundred and forty-ninth.

[FR Doc. 2024-20126

Filed 9-4-24; 8:45 am]

Billing code 3395-F4-P